DEPARTMENT OF THE INTERIOR

Fish and Wildlife Service

Draft Recovery Plan for the Blackburn's Sphinx Moth (Manduca blackburni)

AGENCY: Fish and Wildlife Service, Interior.

ACTION: Notice of document availability for review and comment.

SUMMARY: The U.S. Fish and Wildlife Service (“we”) announces the availability of the Draft Recovery Plan for the Blackburn's Sphinx Moth (Manduca blackburni) (sphinx moth) for public review and comment. This insect taxon is listed as endangered (45 FR 4770; February 1, 2000), and is endemic to the main Hawaiian Islands. We solicit review and comment from local, State, and Federal agencies, and the public on this draft recovery plan.

DATES: Comments on this draft recovery plan must be received on or before February 17, 2004 to receive our consideration.

ADDRESSES: Copies of the draft recovery plan are available for inspection, by appointment, during normal business hours at the following locations: U.S. Fish and Wildlife Service, Pacific Islands Fish and Wildlife Office, 300 Ala Moana Boulevard, Room 3-122, Box 50088, Honolulu, Hawaii 96850 (phone: 808-541-3441) and the Hawaii State Library 478 S. King Street, Honolulu, Hawaii 96813. Requests for copies of the draft plan and written comments and materials regarding this plan should be addressed to the Field Supervisor, Ecological Services, at the above Honolulu address.

FOR FURTHER INFORMATION CONTACT: The Field Supervisor at the above Honolulu address.

SUPPLEMENTARY INFORMATION:

Background

Recovery of endangered or threatened animals and plants is a primary goal of our endangered species program and the Endangered Species Act (Act) (16 U.S.C. 1531 et seq. Recovery means improvement of the status of listed species to the point at which listing is no longer necessary under the criteria set out in section 4(a)(1) of the Act. Recovery plans describe actions considered necessary for the conservation and survival of the species, establish criteria for downlisting or delisting listed species, and estimate time and cost for implementing the measures needed for recovery.

The Act requires the development of recovery plans for listed species unless such a plan would not promote the conservation of a particular species. Section 4(f) of the Act requires that public notice, and an opportunity for public review and comment, be provided during recovery plan development. We will consider all information presented during a public comment period prior to approval of each new or revised recovery plan. We, along with other Federal agencies, will also take these comments into account in the course of implementing approved recovery plans. Individual responses to comments will not be provided.

The sphinx moth was federally listed as endangered on February 1, 2000 (65 FR 4770). This insect taxon is currently known to occur on three of the seven Hawaiian Islands where it historically occurred, including Hawaii, Maui, and Kahoolawe. Although some habitat is under public ownership and zoned for conservation purposes, no known sphinx moth habitat complexes are entirely protected, and the species faces threats throughout its range.

The sphinx moth is currently found in association with topographically diverse landscapes that contain low to moderate levels of nonnative vegetation. Vegetation types that support the sphinx moth include dry to mesic shrub land and forest from sea level to mid-elevations. Soil and climatic conditions, as well as physical factors, affect the suitability of habitat within the species' range. The primary threats to the sphinx moth include urban and agricultural development; invasion by non-native plant species; habitat fragmentation and degradation; increased wildfire frequency; impacts from ungulates; other human-caused disturbances that have resulted in substantial losses of habitat throughout the species' historic range; parasitoids and insect predators; and vandalism (collection). Needed conservation activities include protection, management, and restoration of suitable and restorable habitat; out-planting of native Nothocestrum spp. host plants; and a sphinx moth captive breeding program that would augment or expand the existing population within its historic range. This draft recovery plan identifies 3 recovery units, comprising 13 management units, which are geographic areas recently documented to contain sphinx moth populations and/or sphinx moth host plant populations, and shall be the focus of recovery actions or tasks. The three recovery units and their component management units contain habitat considered necessary for the long-term conservation of the sphinx moth (e.g., networks of suitable habitat patches and connecting lands).

The recovery actions described in this draft recovery plan include: (1) Protect habitat and control threats to the moth and its habitat; (2) expand existing wild Nothocestrum spp. host plant populations; (3) conduct additional research essential to recovery of the sphinx moth; (4) develop and implement a detailed monitoring plan for the sphinx moth; (5) reestablish wild sphinx moth populations within its historic range; (6) develop and provide information for the public on the sphinx moth; and (7) validate recovery objectives.

The recovery objective of this draft recovery plan is to ensure the species' long-term survival and conservation and to conduct research necessary to refine recovery criteria so that the sphinx moth can be reclassified to threatened and eventually delisted.

Public Comments Solicited

We solicit written comments on the draft recovery plan described. All comments received by the date specified above will be considered in developing a final sphinx moth recovery plan.

Authority

The authority for this action is section 4(f) of the Endangered Species Act, 16 U.S.C. 1533(f).

Dated: October 14, 2003.
David J. Wesley,
Acting Regional Director, Region 1, Fish and Wildlife Service.

[FR Doc. 03-31189 Filed 12-17-03; 8:45 am]

BILLING CODE 4310-55-U